DEPARTMENT OF LABOR

Employment and Training Administration

Workforce Investment Act (WIA) Section 167, the National Farmworker Jobs Program (NFJP)

AGENCY: Employment and Training Administration (ETA), Labor.

ACTION: Notice of formula allocations for the Program Year (PY) 2004 NFJP, request for comments.

SUMMARY: Under section 182(d) of the WIA of 1998, ETA is publishing the PY 2004 allocations for the NFJP authorized under Section 167 of the WIA. The allocations are distributed to the states by a formula that estimates, by state, the relative demand for NFJP services. The allocations in this notice apply to the PY beginning July 1, 2004.

DATES: Comments must be submitted on or before May 31, 2004.

ADDRESSES: Comments should be sent to Ms. Alina M. Walker, Chief, Division of Seasonal Farmworker Programs, Room S-4206, Employment and Training Administration, U.S. Department of Labor, 200 Constitution Avenue, NW., Washington, DC 20210, e-mail address: walker.alina@dol.gov.

FOR FURTHER INFORMATION CONTACT: Ms. Alina M. Walker, Chief, Division of Seasonal Farmworker Programs, Room S-4206, Employment and Training Administration, U.S. Department of Labor, 200 Constitution Avenue, NW., Washington, DC 20210, telephone: (202) 693-2706 (this is not a toll-free number).

SUPPLEMENTARY INFORMATION: I. Background. On May 19, 1999, we published a notice of a new formula for allocating funds available for the NFJP in the Federal Register at 64 FR 27390. The notice explains how the formula achieves its purpose of distributing funds geographically by state service area on the basis of each area's relative share of farmworkers who are eligible for enrollment in the NFJP. The formula consists of a rational combination of multiple data sets that were selected to yield the relative share distribution of eligible farmworkers. The combined-data formula is substantially more relevant to the purpose of aligning the allocations with the eligible population than the allocations determined by the prior formula.

Under the notice of May 19, 1999, the implementation schedule for the allocation formula provided that, following PY 2002, the formula would be applied without adjustment for the hold-harmless provisions described in Section IV of that notice. However, House Report No. 108-188 related to the Consolidated Appropriations Act for PY 2004, requires that in PY 2004, no area receive less than 85 percent of its 1998 level. Section III explains the methodology used for PY 2004 to allocate funds under the formula and to satisfy the 85 percent requirement. This methodology produces a more equitable result than the one applied for each of the four years of the hold-harmless phase. The methodology under the hold-harmless phase (PYs 1999 through 2002) funded all states at their required minimum level before allocating the remaining funds in accordance with the formula.

II. Limitations on Uses of Section 167 Funds. In appropriating the funds for PY 2004, Congress provided in its Consolidated Appropriations Act 108-199 as follows: “That, notwithstanding any other provision of law or related regulation, $77,330,000 shall be for carrying out discretionary purposes. * * *” The Act includes a 0.59 percent across-the-board rescission requirement. A total of $71,786,943 for formula grants is allocated as a result of applying this requirement.

III. PY 2004 Allocation Formula. The first step of the formula for PY 2004 distributes the total formula funds of $71,786,943 on the basis of the relative share of eligible farmworkers as determined by the combined datasets of the formula described in the May 19, 1999, notice. Congress provided in House Report 108-188, which concerns the appropriations for PY 2004, that those states impacted by formula reductions would receive no less than 85 percent of their comparable 1998 allocation levels. Consequently, the amount for each state calculated in step one was compared to an amount equal to 85 percent of each state's PY 1998 allocation. If the 1998 comparison level was higher for a state, that amount was assigned to that state. All such states' assigned 1998 comparison levels were added and these states were removed from the remaining calculations. For the remaining states whose formula amounts were higher than their PY 1998 allocations, their formula amounts were added and the total was compared to the total amount of remaining funds. Since there were less funds remaining available, each remaining state's formula amount was reduced by the same proportion the total remaining available funds bore to the total remaining states' formula amounts. This reduced distribution was again tested against the 1998 comparison level and the above process was repeated until there were no remaining states being assigned the 1998 comparison level. Each state's final allocation was either the assigned 1998 comparison level or the final proportionally reduced formula amount.

IV. State Combinations. We anticipate a single plan of service for operating the PY 2004 NFJP in the jurisdiction comprised of Delaware and Maryland and the jurisdiction comprised of Rhode Island and Connecticut.

PY 2004 Allocation: The “Allocation Table” provides the allocations for the NFJP in PY 2004. NFJP grantees will use these figures in preparing in PY 2004 grant plans.

Signed at Washington, DC, this 29th day of March 2004.
Emily Stover DeRocco,
Assistant Secretary for Employment and Training.

BILLING CODE 4510-30-M

[FR Doc. 04-8196 Filed 4-9-04; 8:45 am]

BILLING CODE 4510-30-C